DEPARTMENT OF THE TREASURY

Submission for OMB Review; Comment Request

August 26, 2014.

The Department of the Treasury will submit the following information collection request to the Office of Management and Budget (OMB) for review and clearance in accordance with the Paperwork Reduction Act of 1995, Public Law 104-13, on or after the date of publication of this notice.

DATES: Comments should be received on or before September 29, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8141, Washington, DC 20220, or email at PRA@treasury.gov.

FOR FURTHER INFORMATION CONTACT: Copies of the submission may be obtained by emailing PRA@treasury.gov, calling (202) 622-1295, or viewing the entire information collection request at www.reginfo.gov.

Internal Revenue Service (IRS)

OMB Number: 1545-2246.

Type of Review: Extension of a currently approved collection.

Title: Form 8957—Foreign Account Tax Compliance Act (FATCA) Registration; Form 8966—FATCA Report.

Form: Form 8957, Form 8966.

Abstract: Form 8957 is used by a financial institution to register itself and its branches, if any, as a participating foreign financial institution (PFFI), a registered deemed-compliant foreign financial institution (RDCFFI), a limited foreign financial institution (Limited FFI), a limited branch (Limited Branch), or a sponsoring entity (Sponsoring Entity). Form 8966 is for reporting purposes and is to be filed by foreign financial institutions to report foreign reportable amounts paid to their current account holders that are nonparticipating FFIs. Form 8966 is further to be filed by a withholding agent to report U.S. owners of certain foreign entities regarding withholdable payments made to these entities.

Affected Public: Businesses or other for-profits.

Estimated Annual Burden Hours: 4,063,856.

Brenda Simms,
Treasury PRA Clearance Officer.

[FR Doc. 2014-20633 Filed 8-28-14; 8:45 am]

BILLING CODE 4830-01-P